DEPARTMENT OF HEALTH AND HUMAN SERVICES

Agency for Healthcare Research and Quality

Request for Information Regarding Patient-Reported Outcome Measures

AGENCY: Agency for Healthcare Research and Quality (AHRQ), HHS.

ACTION: Request for information.

SUMMARY: AHRQ is seeking information submissions from the public. Information is being solicited to inform our work on patient-reported outcomes (PROs). Access to information regarding physical function PRO measure use will assist the selection of measures for AHRQ's efforts to develop and implement user-friendly technical tools to collect and integrate PRO data in electronic health records or other health information technology products.

DATES: Submission must be received by April 1, 2018.

ADDRESSES: Electronic responses are preferred and should be addressed to Janey.hsiao@ahrq.hhs.gov. Non-electronic responses will also be accepted. Please mail to: Janey Hsiao, Agency for Healthcare Research and Quality, 5600 Fishers Lane, Rockville, MD 20857, Mailstop: 06E73A.

FOR FURTHER INFORMATION CONTACT: Janey Hsiao, Health Scientist Administrator, Center for Evidence and Practice Improvement, Janey.hsiao@ahrq.hhs.gov, (301) 427-1335.

SUPPLEMENTARY INFORMATION: AHRQ plans to conduct a Challenge Competition in Fall 2018 to develop user-friendly technical tools to collect and integrate patient-reported outcome (PRO) data in electronic health records or other health information technology products. The technical tools will be intended for use in ambulatory care settings including primary care and specialty care. For this competition, AHRQ will choose a physical function PRO measure as a use case for the tool development. More information about the Challenge Competition is available at https://www.gpo.gov/fdsys/pkg/FR-2017-12-26/pdf/2017-27663.pdf. AHRQ will also conduct another project to pilot test whether the specified standards used in the Challenge Competition can be adapted for data collection utilizing other PRO measures or domains. AHRQ is interested in learning what physical function PRO measures are being used, and about experiences with these measures in clinical practice. We are also interested in methods used to collect these PROs, including computer adaptive testing (CAT). The information will inform AHRQ's decision in selecting physical function PRO measures for the Challenge Competition and the subsequent pilot test.

Your contribution will be very beneficial to AHRQ's PRO projects. This is a voluntary request for information, and all costs for complying with this request must be borne by the submitter.

This RFI is for planning purposes only and should not be construed as a policy, solicitation for applications, or as an obligation on the part of the Government to provide support for any ideas identified in response to it. AHRQ will use the information submitted in response to this RFI at its discretion and will not provide comments to any responder's submission. However, responses to the RFI may be reflected in future solicitation(s) or policies. Respondents are advised that the Government is under no obligation to acknowledge receipt of the information received or provide feedback to respondents with respect to any information submitted. No proprietary, classified, confidential, or sensitive information should be included in your response. The Government reserves the right to use any non-proprietary technical information in any resultant solicitation(s). The contents of all submissions will be made available to the public upon request. Materials submitted must be publicly available or able to be made public.

Submission Instructions

Specific questions of interest to AHRQ include, but are not limited to:

1. What physical function PRO measures does your health system/practice currently use to collect PRO data? Which PRO measures in use do you find most useful with respect to clinical management, quality improvement, population health, or for other uses?

2. What is the type of care setting (primary care or specialty care) within which these physical function PRO data are collected? Are similar measures used in other settings (e.g., acute care, post-acute care, rehabilitation, home care, long term care)?

3. How are the PRO data collected? Is the PRO data collection via paper or an electronic mechanism? Please specify the electronic mechanism (e.g., patient portal, tablet) and whether the electronic mechanism is internal or external to an electronic health records system. Is CAT used? What is the typical workflow for collecting PRO data?

4. How are the PRO data used (e.g., patient assessment, shared decision making, quality improvement, research?) What has been your experience with the use of these measures?

AHRQ is interested in all of the questions listed above, but respondents are welcome to address as many or as few as they choose and to address additional areas of interest not listed. Submission of copies of existing documentation or reports describing the measure and its properties, existing data sources, etc., is highly desirable but not required.

Gopal Khanna,
Director.

[FR Doc. 2018-04050 Filed 2-27-18; 8:45 am]

BILLING CODE 4160-90-P